DEPARTMENT OF TRANSPORTATION

Rapid Response Teams on Airport Security and Aircraft Security

AGENCY: Office of the Secretary, DOT.

ACTION: Notice.

SUMMARY: In accordance with the Federal Advisory Committee Act (5 U.S.C., App.), the Secretary of Transportation is establishing two Rapid Response Teams on Airport Security and Aircraft Security. Each team shall conduct a comprehensive study of and make recommendations concerning, improvements in airport security and aircraft security, respectively. Each team shall submit a report to the Secretary of Transportation by October 1, 2001, and shall terminate 30 days after submitting its final report.

The membership shall consist of employees of the Department of Transportation and experts from the private sector. Due to national security considerations, under Section 10(d) of the Federal Advisory Committee Act and 5 U.S.C. 552b(c), the meetings of each team will be closed to the public, and matters discussed are exempt from mandatory disclosure under 49 U.S.C. 40119(b).

For further information, contact David Tochen, Deputy Assistant General Counsel, U.S. Department of Transportation, 400 7th St., SW., Washington, DC 20590, phone number (202) 366-9161.

Issued on September 20, 2001.
Rosalind A. Knapp,
Acting General Counsel.

[FR Doc. 01-24250 Filed 9-26-01; 8:45 am]

BILLING CODE 4910-62-P